SMALL BUSINESS ADMINISTRATION

Surrender of License of Small Business Investment Company

Pursuant to the authority granted to the United States Small Business Administration under the Small Business Investment Act of 1958, as amended, under Section 309 of the Act and Section 107.1900 of the Small Business Administration Rules and Regulations (13 CFR 107.1900) to function as a small business investment company under the Small Business Investment Company License No. 02/02-0672 issued to Ares Venture Finance, L.P., said license is hereby declared null and void.

United States Small Business Administration.
Dated: April 2, 2018.
A. Joseph Shepard,
Associate Administrator for Investment and Innovation.

[FR Doc. 2018-07013 Filed 4-5-18; 8:45 am]

BILLING CODE 8025-01-P